DEPARTMENT OF LABOR

Office of the Secretary

Submission for OMB Review: Comment Request

August 3, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Fire Protection (Underground Coal Mines).

OMB Number: 1219-0054.

Frequency: On occasion; Quarterly; Weekly; Semi-annually; and Annually.

Type of Response: Recordkeeping and Third party disclosure.

Affected Public: Business or other for-profit.

Number of Respondents: 886.

Estimated Number of Annual Responses: 324,500.

Average Annual Hours per Respondent: Approximately 58 hours.

Estimated Annual Burden Hours: 51,580.

Total Annualized capital/startup costs: $0.

Total Annual Costs (operating/maintaining systems or purchasing services): $0.

Description: Under 30 CFR 75.1100-3, chemical fire extinguishers must be examined every 6 months and the date of the examination recorded on a permanent tag attached to the extinguisher. Under section 75.1103-8, a qualified person must examine the automatic fire sensor and warning device systems on a weekly basis, and must conduct a functional test of the complete system at least once a year. Under section 75.1103-11, each fire hydrant and hose must be tested at least once a year, and the records of those tests shall be kept in an appropriate location. Under section 75.1501, mine operators are to train all miners on the requirements and identity of the responsible person designated for emergency evacuation. Under section 75.1502, the program of instruction requires revisions to existing fire-fighting and evacuations plans to address emergencies, and requires training of miners regarding the mine emergency evacuation fire fighting plan for all emergencies created as a result of a fire, an explosion, or a gas or water inundation.

Ira L. Mills,
Departmental Clearance Officer.

[FR Doc. E6-12941 Filed 8-8-06; 8:45 am]

BILLING CODE 4510-43-P